DEPARTMENT OF AGRICULTURE

National Agricultural Statistics Service

Notice of Intent To Request Revision and Extension of a Currently Approved Information Collection, Correction

AGENCY: National Agricultural Statistics Service, USDA.

ACTION: Notice and request for comments.

SUMMARY: In accordance with the Paperwork Reduction Act of 1995, this notice announces the intention of the National Agricultural Statistics Service (NASS) to seek reinstatement of the 2019 Organic Survey. Response to this survey will be mandatory.

DATES: Comments on this notice must be received by May 6, 2019 to be assured of consideration.

ADDRESSES: You may submit comments, identified by docket number 0535-0249, 2019 Organic Survey, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

Correction

In the Federal Register of February 28, 2019, FR Doc. No. 40, pages 6765-6766, on page one, line 3, should read as follows:

Notice of Intent to Seek Approval to Reinstate an Information Collection

Dated: February 28, 2019.
Yvette Anderson,
Federal Register Liaison Officer for ARS, ERS, NASS.

[FR Doc. 2019-04020 Filed 3-5-19; 8:45 am]

BILLING CODE 3410-20-P